DEPARTMENT OF ENERGY

[EERE-2013-BT-NOC-0005]

Solicitation of Nominations for Membership on the Appliance Standards and Rulemaking Federal Advisory Committee

AGENCY: Office of Energy Efficiency and Renewable Energy, Department of Energy.

ACTION: Solicitation of nominations for membership.

SUMMARY: To ensure a wide range of candidates and a balanced committee, the U.S. Department of Energy (DOE) announces the solicitation of nominations to fill upcoming vacancies on the Appliance Standards and Rulemaking Federal Advisory Committee (Committee).

DATES: All nomination information should be provided in a single, complete package submitted electronically or postmarked by August 20, 2018.

ADDRESSES: Nominations packages should be submitted either electronically or by mail, but not by both methods. Complete nomination packages identified by docket number “EERE-2013-BT-NOC-0005” may be submitted by any of the following methods:

1. Federal eRulemaking Portal: http://www.regulations.gov. Follow the instructions for submitting comments.

2. Email: ASRAC@ee.doe.gov. Include docket number “EERE-2013-BT-NOC- 0005” in the subject line of the message.

3. Postal Mail: Ms. Naeema Conway, U.S. Department of Energy, Building Technologies Office, Mailstop EE-5B, 1000 Independence Avenue SW, Washington, DC 20585-0121. If possible, please submit all items on a compact disc (CD), in which case it is not necessary to include printed copies.

4. Hand Delivery/Courier: Ms. Naeema Conway, U.S. Department of Energy, Building Technologies Office, 950 L'Enfant Plaza SW, Suite 600, Washington, DC 20024. Telephone: (202) 287-1445. If possible, please submit all items on a CD, in which case it is not necessary to include printed copies. No telefacsimiles (faxes) will be accepted.

It is recommended that nominations be submitted in electronic format via email to ASRAC@ee.doe.gov. Submissions submitted by mail are welcome, but may be delayed in delivery due to the DOE mail vetting procedures in place. For submission by mail, please send to Ms. Naeema Conway, U.S. Department of Energy, Building Technologies Office, Mailstop EE-5B, 1000 Independence Avenue SW, Washington, DC 20585-0121. If possible, please submit all items on a compact disc (CD), in which case it is not necessary to include printed copies.

FOR FURTHER INFORMATION CONTACT: John Cymbalsky by telephone at (202) 287-1692 or by email at asrac@ee.doe.gov.

SUPPLEMENTARY INFORMATION: The Committee will provide advice and recommendations to the Secretary of Energy on the DOE's Appliance and Equipment Standards Program's test procedures and rulemaking determinations. The Committee's scope is to review and make recommendations on the: (1) Development of minimum efficiency standards for residential appliances and commercial equipment, (2) development of product test procedures, (3) certification and enforcement of standards, (4) labeling for various residential products and commercial equipment, and (5) specific issues of concern to DOE as requested by the Secretary of Energy, the Assistant Secretary for Energy Efficiency and Renewable Energy, and the Buildings Technologies Office's Director.

To facilitate the functioning of the Committee, working groups (i.e., subcommittees) may be formed with the approval of the Department of Energy. The objectives of the working groups are to make recommendations to the Committee with respect to particular matters related to the responsibilities of the parent committee. Such working groups may not work independently of the Committee and must report their recommendations and advice to the Committee for full deliberation and discussion. Working group members are appointed with DOE approval.

DOE is hereby soliciting nominations for members of the Appliance Standards and Rulemaking Federal Advisory Committee. The Committee is expected to be continuing in nature. Members will be selected with a view toward achieving a balanced committee of experts in fields relevant to energy efficiency, appliance and commercial equipment standards to include DOE, as well as representatives of industry (including manufacturers and trade associations representing manufacturers, component manufacturers and related suppliers, and retailers), utilities, states, energy efficiency/environmental advocacy groups, and consumers. Committee members will serve for a term of three years or less and may be reappointed for successive terms, with no more than two successive terms. Appointments may be made in a manner that allows the terms of the members serving at any time to expire at spaced intervals, so as to ensure continuity in the functioning of the Committee. Some Committee members may be appointed as special Government employees, experts in fields relevant to energy efficiency and appliance and commercial equipment standards; or as representatives of industry (including manufacturers and trade associations representing manufacturers, component manufacturers and related suppliers, and retailers), utilities, states, energy efficiency/environmental advocacy groups, and consumers. Special Government employees will be subject to certain ethical restrictions and such members will be required to submit certain information in connection with the appointment process.

Members of the Committee will serve without compensation; however, each member may be reimbursed in accordance with Federal Travel Regulations for authorized travel and per diem expenses incurred while attending Committee meetings.

Process and Deadline for Submitting Nominations: Qualified individuals can self-nominate or be nominated by any individual or organization. Nominators should submit:

1. The nominee's current resume or curriculum vitae and contact information, including mailing address, email address, and telephone number; and

2. A letter of interest, including a summary of how the nominee's experience and expertise would support the Committee's objectives;

All nomination information should be provided in a single, complete package by the deadline specified in this notice. Nominations packages should be submitted by either mail or electronically, but not by both methods.

Should more information be needed, DOE staff will contact the nominee, obtain information from the nominee's past affiliations or obtain information from publicly available sources, such as the internet. A selection team will review the nomination packages. This team will be comprised of representatives from several DOE Offices. The selection team will seek balanced viewpoints and consider many criteria, including: (a) Scientific or technical expertise, knowledge, and experience; (b) stakeholder representation; (c) availability and willingness to serve; and (d) skills working in committees, working groups and advisory panels. The selection team will make recommendations regarding membership to the Secretary of Energy for review and selection of Committee members.

Nominations are open to all individuals without regard to race, color, religion, sex, national origin, age, mental or physical handicap, marital status, or sexual orientation. To ensure that recommendations to the Committee take into account the needs of the diverse groups served by DOE, membership shall include, to the extent practicable, individuals with demonstrated ability to represent the needs of women and men of all racial and ethnic groups, and persons with disabilities. Please note, however, that individuals already serving on another Federal advisory committee are ineligible for nomination.

Signed in Washington, DC, on July 12, 2018.
Kathleen B. Hogan,
Deputy Assistant Secretary for Energy Efficiency, Energy Efficiency and Renewable Energy.

[FR Doc. 2018-15582 Filed 7-19-18; 8:45 am]

BILLING CODE 6450-01-P